DEPARTMENT OF ENERGY

Federal Energy Regulatory Commission

[Docket No. IC26-12-000]

Commission Information Collection Activity (FERC-730); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-730: Report of Transmission Investment Activity.

DATES: Comments on the collections of information are due April 20, 2026.

ADDRESSES: Please submit comments via email to DataClearance@FERC.gov. You must specify the Docket No. (IC26-12-000) and the FERC Information Collection number (FERC-730) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, 12225 Wilkins Avenue, Rockville, MD 20852.

Docket: To view comments and issuances in this docket, please visit https://elibrary.ferc.gov/eLibrary/search.

FOR FURTHER INFORMATION CONTACT: Kayla Williams may be reached by email at DataClearance@FERC.gov, or by telephone at (202) 502-6468.

SUPPLEMENTARY INFORMATION:

Title: FERC-730, Report of Transmission Investment Activity.

OMB Control No.: 1902-0239.

Type of Request: Three-year extension of the FERC-730 information collection requirements with no changes to the current reporting requirements.

Abstract: This collection of information assists the Commission in implementing section 219 of the Federal Power Act (FPA) ¹ and 18 CFR 35.35(h), which address incentive-based rate treatments for transmission infrastructure investment. FERC-730 consists of an annual report that includes recent year actual transmission investment, projections of annual investments for the following five years, details on the level and status of transmission investment, and the reasons for delay (if any).

¹ 16 U.S.C. 824s.

The regulation at 18 CFR 35.35(h) requires public utilities that have been granted incentive rate treatment for specific transmission projects to file FERC Form-730 annually, beginning with the calendar year incentive rate treatment is granted by the Commission. Such filings are due by April 18 of the following calendar year and are due April 18 each year thereafter. The following information must be filed:

(1) In dollar terms, actual transmission investment for the most recent calendar year, and projected, incremental investments for the next five calendar years; and

(2) For all current and projected investments (except projects with projected costs less than $20 million) over the next five calendar years, a project-by-project listing that specifies for each project: details of the transmission project, the most up-to-date expected completion date; percentage completion as of the date of filing; and reasons for any delays.

For good cause shown, the Commission may extend the time within which any FERC-730 filing is to be filed or waive the requirements applicable to any such filing.

The Commission uses the FERC-730 information collection to determine an accurate assessment of the state of transmission investment by public utilities.

Type of Respondents: Public utilities that have been granted incentive-based rate treatment for specific transmission projects under provisions of 18 CFR 35.35.

Estimate of Annual Burden: ² The Commission estimates 64 responses annually, and per-response burdens of 30 hours and $3,060. The total estimated burdens per year are 1,920 hours and $195,840. These burdens are itemized in the following table:

² Burden is defined as the total time, effort, or financial resources expended by persons to generate, maintain, retain, or disclose or provide information to or for a Federal agency. For further explanation of what is included in the information collection burden, refer to 5 CFR 1320.3.

A. Number of respondents | B. Annual number of responses per respondent | C. Total number of responses | D. Average burden & cost per response ³ | E. Total annual burden hours & total annual cost | F. Cost per respondent ($)
|  | (Column A × Column B) |  | (Column C × Column D) | (Column E ÷ Column A)
64 | 1 | 64 | 30 hours; $3,060 | 1,920 hours; $195,840 | $3,060
Totals |  | 64 |  |  |

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The Commission staff estimates that the industry's hourly cost for wages plus benefits is similar to the Commission's $102.00 ($213,003 annually) FY 2026 average hourly cost for wages and benefits.

Dated: February 12, 2026.
Carlos D. Clay,
Deputy Secretary.

[FR Doc. 2026-03174 Filed 2-17-26; 8:45 am]

BILLING CODE 6717-01-P